NATIONAL SCIENCE FOUNDATION

Special Emphasis Panel in Civil and Mechanical Systems; Notice of Meetings

In accordance with the Federal Advisory Committee Act (Pub. L. 92-463, as amended), the National Science Foundation announces the following closed meetings of the Special Emphasis Panel in Civil and Mechanical Systems (1205):

Date/Time: October 27, 2000; 8:00 a.m. to 5:00 p.m.

Place: NSF, 4201 Wilson Boulevard, Room 530, Arlington, Virginia 22230.

Contact Person: Dr. Alison Flatau, Program Director, Dynamic Systems and Control, Sensor Technologies for Civil and Mechanical Systems, Room 545, (703) 292-8360.

Purpose of Meeting: To provide advice and recommendations concerning Career proposals submitted to NSF for financial support.

Agenda: To review and evaluate nominations for the FY'01 Sensor Technologies for Civil and Mechanical Systems Review Panel Career proposals as part of the selection process for awards.

Date/Time: November 2-3, 2000; 8:00 a.m. to 5:00 p.m.

Place: NSF, 4201 Wilson Boulevard, Room 530, Arlington, Virginia 22230.

Contact Person: Dr. Alison Flatau, Program Director, Dynamic Systems and Control, Sensor Technologies for Civil and Mechanical Systems, Room 545, (703) 292-8360.

Purpose of Meeting: To provide advice and recommendations concerning Career proposals submitted to NSF for financial support.

Agenda: To review and evaluate nominations for the FY'01 Dynamic Systems and Control Review Panel Career proposals as part of the selection process for awards.

Reason for Closing: The proposals being reviewed include information of a proprietary or confidential nature, including technical information; financial data, such as salaries and personal information concerning individuals associated with the proposals. These matters are exempt under 5 U.S.C. 552b(c), (4) and (6) of the Government in the Sunshine Act.

Dated: September 19, 2000.
Karen J. York,
Committee Management Officer.

[FR Doc. 00-24407 Filed 9-21-00; 8:45 am]

BILLING CODE 7555-01-M